DEPARTMENT OF TRANSPORTATION

Office of the Secretary

Notice of Applications for Certificates of Public Convenience and Necessity and Foreign Air Carrier Permits Filed Under Subpart B (Formerly Subpart Q) During the Week Ending October 9, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0243.

Date Filed: October 6, 2009.

Due Date for Answers, Conforming Applications, or Motion to Modify Scope: October 27, 2009.

Description: Application of Albinati Aeronautics SA (“Albinati”) requesting a foreign air carrier permit to the full extent authorized by the Air Transport Agreement between the Government of Switzerland and the Government of the United States of America in order to engage in: (i) Charter foreign air transportation of persons, property and mail from points behind Switzerland via Switzerland and intermediate points to a point or points in the United States and beyond; and (ii) Fifth Freedom charter service pursuant to the prior approval requirements set forth in Part 212 of the Department's Economic Regulations.

Docket Number: DOT-OST-2009-0244.

Date Filed: October 6, 2009.

Due Date for Answers, Conforming Applications, or Motion to Modify Scope: October 27, 2009.

Description: Application of Hellenic Imperial Airways (“Hellenic”) requesting exemption authority and a foreign air carrier permit to conduct scheduled and charter foreign air transportation of persons, property, and mail, between a point or points in the European Community and the Member States of the European Union, and a point or points in the United States, to the full extent allowed under the Air Transport Agreement between the United States and the European Community and the Member States of the European Union.

Barbara J. Hairston,
Supervisory Dockets Officer, Docket Operations, Alternate Federal Register Liaison.

[FR Doc. 2010-2789 Filed 2-8-10; 8:45 am]

BILLING CODE 4910-9X-P